FEDERAL COMMUNICATIONS COMMISSION

47 CFR Part 87

[WT Docket No. 00-77; FCC 01-378]

Accommodation of Advanced Digital Communications in the 117.975-137 MHz Frequency Band and Implementation of Flight Information Services in the 136-137 MHz Frequency Band

AGENCY: Federal Communications Commission.

ACTION: Final rule.

SUMMARY: This document amends the Commission's rules to specify that very high frequency (VHF) aeronautical stations operating with phase modulation digital data emissions shall limit their power and out-of-band emissions in accord with recently modified international Standards and Recommended Practices (SARPs) adopted by the International Civil Aviation Organization (ICAO). The Commission has adopted these amendments in response to a petition for partial reconsideration of the Report and Order in this proceeding, filed by Aeronautical Radio, Inc. (ARINC). These rule amendments will serve the public interest because the revised standards have been accepted by the aviation community globally and will assist the aviation industry in implementing new data communications systems. In addition, by facilitating the deployment of advanced aviation communications technology, these amendments will serve the goals of aviation safety and efficiency that underlie this proceeding.

EFFECTIVE DATE: Effective March 4, 2002.

FOR FURTHER INFORMATION CONTACT: Jeffrey Tobias, Wireless Telecommunications Bureau at (202) 418-0680.

SUPPLEMENTARY INFORMATION: 1. This is a summary of the Commission's Memorandum Opinion and Order, FCC 01-378, adopted on December 21, 2001, and released on December 28, 2001. The full text of this Memorandum Opinion and Order is available for inspection and copying during normal business hours in the FCC Reference Center, Room CY-A257, 445 12th Street, SW., Washington, D.C. 20554. The complete text may be purchased from the Commission's copy contractor, Qualex International, Portals II, 445 12th Street, S.W., Room CY-B402, Washington, D.C. 20554.

Summary of Report and Order

2. Based on the record in this proceeding, we conclude that we should grant ARINC's petition for partial reconsideration because § 87.139(k) of the Commission's rules, 47 CFR 87.139(k), as adopted in the Report and Order, does not reflect recent changes in international standards pertaining to the emission mask and out-of-band power levels for VHF digital aviation communications systems. These modifications of the international SARPs, adopted by the ICAO after the period for submitting comments to the Notice of Proposed Rulemaking in this proceeding, 65 FR 41032, July 3, 2000, are to take effect on January 1, 2002. The ICAO has increased the amount of power permissible in the first adjacent channel by 2 dB, specifying that the total amount of power across the first adjacent channel shall not exceed 2 dBm, rather than the 0 dBm now specified in § 87.139(k)(1). The ICAO has also specified that the power measured over a 16 kHz bandwidth centered in either first adjacent 25 kHz channel shall be limited to −18 dBm, instead of the −20 dBm limit set forth in § 87.139(k)(3). Finally, the ICAO has increased the amount of suppression required for out-of-band emissions in the second adjacent channels and beyond. The old standard required that the amount of power measured across either second adjacent channel be less than −25 dBm, and that the power measured in any other adjacent 25 kHz channels decrease monotonically by at least 5 dB per octave to a maximum value of −52 dBm. Under the new standard, the amount of power measured across either second adjacent 25 kHz channel must be less than −28 dBm, the amount of power measured across either fourth adjacent 25 kHz channel must be less than −38 dBm, and from thereon the power measured in any other adjacent 25 kHz channel must monotonically decrease at a rate of at least 5 dB per octave to a maximum value of −53 dBm.

3. It would serve the public interest to have these revised standards reflected in § 87.139(k) because they have been accepted by the aviation community globally and will assist the aviation industry in implementing new data communications systems. In addition, by facilitating the deployment of advanced aviation communications technology, this amendment will also serve the goals of effective aviation safety and efficiency that underlie this proceeding. Consistent with the ICAO rules scheduled to take effect on January 1, 2002, stations installed before January 1, 2002 that meet the existing out-of-band emission suppression standard in § 87.139(k)(2) but not the revised standard will be permitted to continue operating indefinitely.

Final Regulatory Flexibility Certification

4. The Regulatory Flexibility Act of 1980, as amended, (RFA) requires that a regulatory flexibility analysis be prepared for rulemaking proceedings, unless the agency certifies that “the rule will not have a significant economic impact on a substantial number of small entities.” The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

5. In this Memorandum Opinion and Order, we make minor revisions to the out-of-band emission limits applicable to VHF aeronautical stations and aircraft stations operating with digital communications technology. These minor revisions conform our rules with international standards applicable to equipment and aircraft operating outside United States airspace, and have been adopted at the request of Aeronautical Radio, Inc., an organization representing the civil aviation industry, without objection from any party. These minor revisions do not impose any new reporting or compliance requirements on any entity, do not otherwise impose any additional burdens on any small entities, and do not require alteration of the Final Regulatory Flexibility Analysis for the Report and Order. We therefore certify that the adoption of this Memorandum Opinion and Order will not have a significant economic impact on a substantial number of small entities.

Report to Congress: The Commission will send a copy of this Memorandum Opinion and Order, including a copy of this Final Regulatory Flexibility Certification, in a report to be sent to Congress pursuant to the Small Business Regulatory Enforcement Fairness Act of 1996, see 5 U.S.C. 801(a)(1)(A). In addition, the Commission will send a copy of this Memorandum Opinion and Order, including a copy of this Final Regulatory Flexibility Certification, to the Chief Counsel for Advocacy of the Small Business Administration. A copy of the Report and Order and Final Regulatory Flexibility Certification (or summaries thereof) will also be published in the Federal Register. See 5 U.S.C. 604(b).

Ordering Clauses

6. Authority for issuance of this Memorandum Opinion and Order is contained in sections 1, 4(i), 302, 303(f) and (r), and 332 of the Communications Act of 1934, as amended, 47 U.S.C. 151, 154(i), 302, 303(f) and (r), 332.

7. The Petition for Partial Reconsideration filed by Aeronautical Radio, Inc. on June 14, 2001 is granted.

8. Pursuant to sections 1, 4(i), 302, 303(f) and (r), and 332 of the Communications Act of 1934, as amended, 47 U.S.C. 151, 154(i), 302, 303(f) and (r), 332, part 87 of the Commission's rules, 47 CFR part 87, is amended as set forth in Rule Changes, effective March 4, 2002.

17. The Commission's Consumer Information Bureau, Reference Information Center, shall send a copy of this Memorandum Opinion and Order, including the Final Regulatory Flexibility Certification, to the Chief Counsel for Advocacy of the Small Business Administration.

List of Subjects in 47 CFR Part 87

Air transportation; Radio.

Federal Communications Commission.
William F. Caton,
Deputy Secretary.

Rule Changes

For reasons discussed in the preamble, the Federal Communication Commission amends 47 CFR part 87 as follows:

PART 87—AVIATION SERVICES

1. The authority citation for part 87 continues to read as follows:

Authority: 47 U.S.C. 154, 303, and 307(e), unless otherwise noted.

2. Section 87.139 is amended by revising paragraph (k) to read as follows:

§ 87.139 Emission limitations.

* * * * *

(k) For VHF aeronautical stations and aircraft stations operating with G1D or G7D emissions:

(1) The amount of power measured across either first adjacent 25 kHz channel shall not exceed 2 dBm.

(2) For stations first installed before January 1, 2002, the amount of power measured across either second adjacent channel shall be less than −25 dBm and the power measured in any other adjacent 25 kHz channels shall monotonically decrease at a rate of at least 5 dB per octave to a maximum value of −52 dBm. For stations first installed on or after January 1, 2002,

(i) The amount of power measured across either second adjacent 25 kHz channel shall be less than −28 dBm;

(ii) The amount of power measured across either fourth adjacent 25 kHz channel shall be less than −38 dBm; and

(iii) From thereon the power measured in any other adjacent 25 kHz channel shall monotonically decrease at a rate of at least 5 dB per octave to a maximum value of −53 dBm.

(3) The amount of power measured over a 16 kHz channel bandwidth centered on the first adjacent 25 kHz channel shall not exceed −18 dBm.

[FR Doc. 02-2284 Filed 1-30-02; 8:45 am]

BILLING CODE 6712-01-P